DEPARTMENT OF COMMERCE

International Trade Administration

[A-469-814]

Chlorinated Isocyanurates From Spain: Final Results No Shipment Determination; 2012-2013

AGENCY: Enforcement and Compliance, International Trade Administration, Department of Commerce.

SUMMARY: On March 28, 2014, the Department of Commerce (“the Department”) published in the Federal Register the preliminary results of the administrative review of the antidumping duty order on chlorinated isocyanurates (chlorinated isos) from Spain covering the period June 1, 2012 through May 31, 2013.¹ The period of review (POR) is June 1, 2012, through May 31, 2013. The review covers one producer/exporter of the subject merchandise, Ercros S.A. The Department gave interested parties an opportunity to comment on the Preliminary Results, but we received no comments. Hence, these final results are unchanged from the Preliminary Results, and we continue to find that Ercros S.A. did not have reviewable entries during the period of review (“POR”).

¹ See Chlorinated Isocyanurates from Spain: Preliminary No Shipments Determination of Antidumping Duty Administrative Review; 2012-2013, 79 FR 17502 (March 28, 2014) (Preliminary Results).

DATES: Effective Date: August 1, 2014.

FOR FURTHER INFORMATION CONTACT: Sean Cary, AD/CVD Operations, Office VII, Enforcement and Compliance, International Trade Administration, U.S. Department of Commerce, 14th Street and Constitution Avenue NW., Washington, DC 20230; telephone: (202) 482-3964 or (202) 482-3586, respectively.

SUPPLEMENTARY INFORMATION:

Background

On March 28, 2014, the Department published the Preliminary Results of the instant review.² Ercros S.A. submitted a timely-filed certification indicating that it had no shipments of subject merchandise to the United States during the POR.³ In addition, in response to the Department's query, U.S. Customs and Border Protection (“CBP”) did not provide any evidence that contradicted Ercros S.A.'s claim of no shipments.⁴ The Department received no comments from interested parties concerning the results of the CBP query. Therefore, based on Ercros S.A.'s certification and our analysis of CBP information, we preliminarily determined that Ercros S.A. did not have any reviewable entries during the POR.⁵ We invited interested parties to comment on the Preliminary Results.⁶ We received no comments from interested parties.

² Id.

³ See letter from Ercros S.A., “Chlorinated Isocyanurates from Spain/Ercros S.A./Certification of No Shipments and Request to Rescind Review,” dated September 13, 2013.

⁴ See Preliminary Results.

⁵ Id.

⁶ Id.

The Department conducted this review in accordance with section 751(a)(1)(B) of the Tariff Act of 1930, as amended (“the Act”).

Scope of the Order

The products covered by the order are chlorinated isocyanurates. Chlorinated isocyanurates are derivatives of cynauric acid, described as chlorinated s-triazine triones. There are three primary chemical compositions of chlorinated isocyanurates: (1) trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. The order covers all chlorinated isocyanurates. Chlorinated isocyanurates are currently classifiable under subheadings 2933.69.6015, 2933.69.6021, and 2933.69.6050 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of the order is dispositive.

Final Determination of No Shipments

As explained above, in the Preliminary Results, the Department found that Ercros S.A. did not have reviewable entries during the POR.⁷ Also in the Preliminary Results, the Department stated that consistent with its recently announced refinement to its assessment practice, it is not appropriate to rescind the review with respect to Ercros S.A., but rather to complete the review with respect to Ercros S.A. and issue appropriate instructions to CBP based on the final results of this review.⁸

⁷ Id.

⁸ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010) (collectively, Magnesium Metal From the Russian Federation).

After issuing the Preliminary Results, the Department received no comments from interested parties, nor has it received any information that would cause it to revisit its preliminary determination. Therefore, for these final results, the Department continues to find that Ercros S.A. did not have any reviewable entries during the POR.

Assessment Rates

The Department determined, and CBP shall assess, antidumping duties on all appropriate entries of subject merchandise in accordance with the final results of this review.⁹ The Department intends to issue assessment instructions to CBP 15 days after the date of publication of these final results of review. Additionally, consistent with the Department's refinement to its assessment practice, because the Department determined that Ercros S.A. had no shipments of subject merchandise during the POR, any suspended entries that entered under Ercros S.A.'s antidumping duty case number (i.e., at that exporter's rate) will be liquidated at the all-others rate if there is no rate for the intermediate company(ies) involved in the transaction.¹⁰

⁹ See 19 CFR 351.212(b).

¹⁰ For a full discussion of this clarification, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of this notice of final results of the administrative review, as provided by section 751(a)(2)(C) of the Act: (1) For Ercros S.A., which claimed no shipments, the cash deposit rate will remain unchanged from the rate assigned to Ercros S.A. in the most recently completed review of the company; (2) for other manufacturers and exporters covered in a prior segment of the proceeding, the cash deposit rate will continue to be the company-specific rate published for the most recently completed segment of this proceeding in which that manufacturer or exporter participated; (3) if the exporter is not a firm covered in this review, a prior review, or the original investigation, but the manufacturer is, the cash deposit rate will be the rate established for the most recently completed segment of this proceeding for the manufacturer of subject merchandise; and (4) the cash deposit rate for all other manufacturers or exporters will continue to be 24.83 percent, the all-others rate established in the investigation.¹¹

¹¹ See Chlorinated Isocyanurates from Spain: Notice of Final Determination of Sales at Less Than Fair Value, 70 FR 24506 (May 10, 2005).

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (“APO”) of their responsibility concerning the disposition of proprietary information disclosed under APO in accordance with 19 CFR 351.305(a)(3). Timely written notification of the return or destruction of APO materials, or conversion to judicial protective order, is hereby requested. Failure to comply with the regulations and terms of an APO is a sanctionable violation.

We are issuing and publishing this administrative review and notice in accordance with sections 751(a)(1) and 777(i) of the Act.

Dated: July 28, 2014.
Paul Piquado,
Assistant Secretary for Enforcement and Compliance.

[FR Doc. 2014-18230 Filed 7-31-14; 8:45 am]

BILLING CODE 3510-DS-P